DEPARTMENT OF STATE

[Public Notice: 9924]

Nominations for Coordinating Lead Authors, Lead Authors, or Review Editors on the Second and Third Special Reports to be Undertaken by the Intergovernmental Panel on Climate Change During the Sixth Assessment Report (AR6) Cycle

The United States Department of State, in cooperation with the United States Global Change Research Program, seeks nominations for U.S. scientists with requisite expertise to serve as Coordinating Lead Authors, Lead Authors, or Review Editors on the second and third Special Reports to be undertaken by the Intergovernmental Panel on Climate Change (IPCC) during the Sixth Assessment Report (AR6) cycle. The outlines for “Climate Change and Land: An IPCC Special Report on climate change, desertification, land degradation, sustainable land management, food security, and greenhouse gas fluxes in terrestrial ecosystems” and for the “IPCC Special Report on the Ocean and Cryosphere in a Changing Climate” were adopted at the 45th session of the IPCC Plenary.

Nominations may be submitted at https://contribute.globalchange.gov/; additional information can be found at http://www.globalchange.gov/notices. This is an Open Call. All registered users can nominate U.S. citizens and permanent lawful residents to be considered by the IPCC Science Steering Committee (SSC). The call for nominations will close on May 15th, 2017, and a nominations package will be transmitted on behalf of the U.S. IPCC Focal Point on May 17th. The SSC will complete its work and issue appointment memos in late July 2017.

The United Nations Environment Programme (UNEP) and the World Meteorological Organization (WMO) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation.

Christopher Allison,
Director, Acting, Office of Global Change, Bureau of Oceans and International Environmental and Scientific Affairs, Department of State.

[FR Doc. 2017-07596 Filed 4-13-17; 8:45 am]

BILLING CODE 4710-09-P